ENVIRONMENTAL PROTECTION AGENCY

40 CFR Part 63

[EPA-R04-OAR-2008-0904; FRL-8893-6]

Amendments to Requirements To Provide Information on the Delegation of the Administrator's Authorities and Responsibilities for Certain States

AGENCY: Environmental Protection Agency (EPA).

ACTION: Proposed rule.

SUMMARY: EPA is proposing to amend regulations to correct a sequential numbering error that failed to reserve space for the alphabetical listing of the State of Florida, reserve space in the regulations for the State of Florida, and add delegation information for the States of Alabama, Florida, Georgia, Kentucky, Mississippi, North Carolina, and South Carolina. This proposed action is being taken pursuant to section 112 of the Clean Air Act.

In the Final Rules Section of this Federal Register, EPA is publishing a direct final rule for this action without prior proposal because the Agency views this as a noncontroversial action and anticipates no adverse comments. A detailed rationale for the rule amendment is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Comments must be received in writing by June 12, 2009.

ADDRESSES: Submit your comments, identified by Docket ID No. EPA-R04-OAR-2008-0904, by one of the following methods:

1. www.regulations.gov: Follow the on-line instructions for submitting comments.

2. E-mail: page.lee@epa.gov.

3. Fax: 404-562-9095.

4. Mail: “EPA-RO4-OAR-2008-0904”, Air Toxics Assessment and Implementation Section, Air Toxics and Monitoring Branch, Air, Pesticides and Toxics Management Division, U.S. Environmental Protection Agency, Region 4, 61 Forsyth Street, SW., Atlanta, Georgia 30303-8960.

5. Hand Delivery or Courier: Lee Page, Air Toxics Assessment and Implementation Section, Air Toxics and Monitoring Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 am to 4:30 pm, excluding federal holidays.

Please see the direct final rule which is located in the Rules section of this Federal Register for detailed instructions on how to submit comments.

FOR FURTHER INFORMATION CONTACT: Lee Page, Air Toxics Assessment and Implementation Section, Air Toxics and Monitoring Branch, Air, Pesticides and Toxics Management Division, U.S. Environmental Protection Agency, Region 4, 61 Forsyth Street, SW., Atlanta, Georgia 30303-8960. The telephone number is (404) 562-9131. Mr. Page can also be reached via electronic mail at page.lee@epa.gov.

SUPPLEMENTARY INFORMATION: For additional information see the direct final rule which is published in the Final Rules Section of this Federal Register.

Dated: April 3, 2009.
A. Stanley Meiburg,
Acting Regional Administrator, Region 4.

[FR Doc. E9-10151 Filed 5-12-09; 8:45 am]

BILLING CODE 6560-50-P